ENVIRONMENTAL PROTECTION AGENCY

[EPA-HQ-OPP-2007-1174; FRL-8344-9]

Inert Ingredients: Updates to Lists of Inert Ingredients Permitted in Pesticide Products

AGENCY: Environmental Protection Agency (EPA).

ACTION: Notice.

SUMMARY: EPA has released on its website updates to the listings of inert ingredients permitted in pesticide products applied to non-food sites, including those permitted for use in minimum risk pesticides exempted under FIFRA Section 25(b) and those eligible for USDA’s National Organic Program. The lists were last updated in 2004.

FOR FURTHER INFORMATION CONTACT: Karen Angulo, Registration Division (7505P), Office of Pesticide Programs, Environmental Protection Agency, 1200 Pennsylvania Ave., NW., Washington, DC 20460-0001; telephone number: (703) 306-0404; fax number: (703) 605-0781; e-mail address: angulo.karen@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II. If you have any questions regarding the applicability of this action to a particular entity, consult the person listed under FOR FURTHER INFORMATION CONTACT.

B. How Can I Get Copies of this Document and Other Related Information?

1. Docket. EPA has established a docket for this action under docket identification (ID) number EPA-HQ-OPP-2007-1174. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

EPA has released on its website updates to the listing of inert ingredients permitted in pesticide products. The lists were last updated in 2004. The website address for the updated lists is http://www.epa.gov/opprd001/inerts/lists.html.

EPA’s website now provides a list of inert ingredients permitted in pesticide products applied to non-food sites (e.g., ornamental plants, highway right-of-ways, rodent control, etc.). This list has been updated with new inert ingredients approved for use in non-food pesticide products since 2004. The website also provides directions for finding in the electronic Code of Federal Regulations (e-CFR) tolerances and tolerance exemptions for inert ingredients that may be used in pesticide products applied to food commodities. It is important to note that only inert ingredients with tolerances or tolerance exemptions found in the Code of Federal Regulations may be used in food-use pesticide products, and must be in accordance with the uses and limitations (if any).

The Agency’s website update includes a list of inert ingredients that may be used in minimum risk pesticides exempted under FIFRA Section 25(b). Stakeholders should now find it easier to locate 25(b)-eligible inert ingredients (called “4A” under an old EPA policy; see Pesticide Registration Notice 2000-6; http://www.epa.gov/PR_Notices).

In addition, EPA’s website is providing an easy way for stakeholders to find inert ingredients that are eligible for use under USDA’s National Organic Program (NOP). EPA’s website now provides access to a consolidated list of inert ingredients eligible for the NOP through links to USDA’s NOP website. In the past, stakeholders had to search the inert ingredient list on EPA’s website for NOP-eligible inert ingredients (i.e., inert ingredients considered to be “List 4” under an old policy). It is important to note that all matters of policy concerning the eligibility of inert ingredients for use in the NOP are determined by USDA. EPA’s role is to assist USDA by assuring that USDA’s policies are implemented with regard to organic claims made on registered pesticide product labeling.

List of Subjects

Environmental protection, Administrative practice and procedure, Agricultural commodities, Pesticides and pests, Reporting and recordkeeping requirements.

Dated: December 13, 2007.
Lois Rossi,
Director, Registration Division, Office of Pesticide Programs.

[FR Doc. E7-25088 Filed 12-27-07; 8:45 am]

BILLING CODE 6560-50-S